FEDERAL COMMUNICATIONS COMMISSION

47 CFR Parts 13 and 80

[WT Docket No. 00-48; PR Docket No. 92-257; RM-9499; FCC 04-3]

Maritime Communications

AGENCY: Federal Communications Commission.

ACTION: Final rule.

SUMMARY: In this document the Commission amends parts 13 and 80 of the Commission's rules to update and streamline the rules governing the maritime radio services. The paramount goals of these amendments are to enhance maritime safety, promote the efficient use of the maritime radio spectrum, and, to the extent it is consistent with these first two objectives, remove unnecessary regulatory burdens on the users and manufacturers of maritime radio equipment. The amendments also conform part 80 of the Commission's rules with international standards where doing so will not undermine domestic regulatory objectives.

DATES: Effective January 7, 2005. The incorporation by reference of certain publications listed in the regulations is approved by the Director of the Federal Register, as of January 7, 2005.

FOR FURTHER INFORMATION CONTACT: Jeffrey Tobias, Jeff.Tobias@FCC.gov, Public Safety and Critical Infrastructure Division, Wireless Telecommunications Bureau, (202) 418-0680, or TTY (202) 418-7233.

SUPPLEMENTARY INFORMATION: This is a summary of the Federal Communications Commission's consolidated Second Report and Order in WT Docket No. 00-48 and Sixth Report and Order in PR Docket No. 92-257, FCC 04-3, adopted on January 8, 2004, and released on February 12, 2004. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

1. In the Second Report and Order and Sixth Report and Order, we adopt changes to parts 13 and 80 of the Commission's rules that were either proposed in or suggested in response to the Further Notice of Proposed Rule Making (“FNPRM”) in WT Docket No. 00-48, which was released on April 9, 2002, 67 FR 35086, May 17, 2002, and the Fourth Further Notice of Proposed Rule Making (“Fourth FNPRM”) in PR Docket No. 92-257, which was released on December 28, 2001, 67 FR 5080, February 4, 2002. The FNPRM proposed to amend part 80 of the Commission's rules to reflect the implementation domestically of the Global Maritime and Distress Safety System (“GMDSS”) by conforming the rules to revised and updated international standards for GMDSS; deleting or modifying rules affected by full implementation of GMDSS; and to delete or modify any other regulations pertaining to GMDSS that may be unnecessary or in need of clarification. The Fourth FNPRM invited public comment on a number of recommendations from the United States Coast Guard (“USCG”) and from MariTEL, Inc. (“Maritel”), a Commission licensee, to amend the rules pertaining to VHF public coast (“VPC”) stations.

2. The Commission takes the following significant actions in the Second Report and Order in WT Docket No. 00-48: (i) Declines to create a voluntary restricted Global Maritime Distress and Safety System (GMDSS) license for recreational boaters; (ii) clarifies the responsibilities of VPC stations that receive calls on the digital selective calling (“DSC”) distress frequency, Channel 70; (iii) clarifies that VPC stations that are not exempt from the VHF Channel 16 watch requirement must have a radio operator on duty; (iv) prohibits ship operation of any device capable of transmitting on a distress frequency without regulatory authorization; (v) redesignates Channels 75 and 76 for communications related to port operations, and establish requirements for equipment to operate on the channels with reduced carrier power; (vi) authorizes domestic use of INMARSAT-E emergency position indicating radiobeacons (“EPIRBs”) and establishes standards for such devices; (vii) requires that small passenger vessels have DSC capability one year after the USCG declares Sea Areas A1 and A2 to be operational, and establishes additional equipment requirements for such vessels; (viii) declines to specify that the qualified GMDSS operator required to be on vessels under our rules must be assigned exclusively to radio communications duties during an emergency; (ix) updates the requirements for ship radio installations to incorporate new international regulations; (x) incorporates into the rules the international requirement that all passenger ships have the ability to communicate with search and rescue personnel on two specified aeronautical frequencies; (xi) determines to continue listing the carrier frequency, rather than the assigned frequency, in part 80 tables of frequencies; and (xii) specifies the number of questions to include in the GMDSS radio operator license examinations.

3. The Commission takes the following significant actions in the Sixth Report and Order in PR Docket No. 92-257: (i) Clarifies the responsibilities of VPC stations as to when they must maintain a watch on the Channel 16 distress frequency and as to their obligation to notify the USCG of a station relocation; (ii) generally declines to impose additional technical requirements for VPC stations operating on offset channels; (iii) denies a request to reallocate nine channel pairs from public safety and other private land mobile radio operations to use by VPC stations; (iv) adopts new rules requested by the USCG to govern the implementation of Automatic Identification Systems (“AIS”); (v) establishes a new emission mask in part 80 to accommodate a wide range of data services; (vi) eliminates the station identification requirement for VPC stations licensed on a geographic area basis; (vii) authorizes VPC stations to maintain required station records in electronic form; (viii) relaxes the posting requirement for VPC stations; and (ix) clarifies that VPC stations, like other providers of commercial mobile radio services, have been relieved of certain filing requirements as a matter of forbearance.

I. Regulatory Matters

A. Paperwork Reduction Act

4. The Second Report and Order and Sixth Report and Order does not contain any new or modified information collection.

B. Final Regulatory Flexibility Analyses

5. As required by the Regulatory Flexibility Act of 1980, as amended (“RFA”), the Commission has prepared a Final Regulatory Flexibility Analysis (“FRFA”) of the rules adopted in the Second Report and Order in WT Docket No. 00-48. The Commission's Consumer and Governmental Affairs Bureau, Reference Information center, will send a copy of the Second Report and Order in WT Docket No. 00-48, including the FRFA, to the Chief Counsel for Advocacy of the Small Business Administration, in accordance with the RFA.

Second Report and Order in WT Docket No. 00-48

A. Need for, and Objectives of, the Rules Adopted in the Second Report and Order

6. The rules adopted in the Second Report and Order are intended to further streamline, consolidate and clarify the Commission's part 80 rules; remove unnecessary or duplicative requirements; address new international maritime requirements; and promote flexibility and efficiency in the use of marine radio equipment in a manner that will further maritime safety. Specifically, in the Second Report and Order the Commission (i) declines to create a voluntary restricted Global Maritime Distress and Safety System (GMDSS) license for recreational boaters; (ii) clarifies the responsibilities of VHF public coast stations that receive calls on the DSC distress frequency, Channel 70; (iii) clarifies that VHF public coast stations that are not exempt from the VHF Channel 16 watch requirement must have a radio operator on duty; (iv) prohibits ship operation of any device capable of transmitting on a distress frequency without regulatory authorization; (v) redesignates Channels 75 and 76 for communications related to port operations, and establishes requirements for equipment to operate on the channels with reduced carrier power; (vi) authorizes domestic use of INMARSAT-E emergency position indicating radiobeacons (EPIRBs) and establishes standards for such devices; (vii) requires that small passenger vessels have digital selective calling capability one year after the U.S. Coast Guard (Coast Guard or USCG) declares Sea Areas A1 and A2 to be operational, and establishes additional equipment requirements for such vessels; (viii) declines to specify that the qualified GMDSS operator required to be on vessels under our rules must be assigned exclusively to radio communications duties during an emergency; (ix) updates the requirements for ship radio installations to incorporate new international regulations; (x) incorporates into the rules the international requirement that all passenger ships have the ability to communicate with search and rescue personnel on two specified aeronautical frequencies; (xi) determines to continue listing the carrier frequency, rather than the assigned frequency, in part 80 Tables of Frequencies; and (xii) specifies the number of questions to be included in the GMDSS radio operator license examinations.

B. Summary of Significant Issues Raised by Public Comments in Response to the IRFA

7. No comments were submitted specifically in response to the IRFA. We note, however, that the Passenger Vessel Association (PVA) indicated that it was opposed to several of the proposed rules because of the compliance costs that would be incurred by small passenger vessel operators, many of which are small businesses. Specifically, PVA argued that the costs of compliance outweighed the safety benefits of the proposed rules requiring that the VHF and MF radios carried by small passenger vessels be upgraded to have digital selective calling (DSC) capability; that on passenger ships, at least one qualified person must be assigned to perform only radio communications duties during distress situations; and that passenger vessels be equipped with means for two-way on-scene radiocommunications for search and rescue purposes using the aeronautical frequencies 121.5 and 123.1 MHz. We have considered the potential economic impact on small entities of these rules and the other rules discussed in the IRFA, and we have considered alternatives that would reduce the potential economic impact on small entities of the rules enacted herein, regardless of whether the potential economic impact was discussed in any comments.

C. Description and Estimate of the Number of Small Entities To Which Rules Will Apply

8. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which: (i) Is independently owned and operated; (ii) is not dominant in its field of operation; and (iii) satisfies any additional criteria established by the Small Business Administration (SBA).

9. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this FRFA, therefore, the applicable definition of small entity is the definition under the SBA rules applicable to wireless telecommunications. Pursuant to this definition, a “small entity” for purposes of the ship station licensees, public coast station licensees, or other marine radio users that may be affected by these rules, is any entity employing 1,500 of fewer persons. 13 CFR 121.201 (NAICS Code 517212). Since the size data provided by the Small Business Administration do not enable us to make a meaningful estimate of the number of marine radio service providers and users that are small businesses, we have used the 1992 Census of Transportation, Communications, and Utilities, conducted by the Bureau of the Census, which is the most recent information available. This document shows that twelve radiotelephone firms out of a total of 1,178 such firms which operated in 1992 had at least 1,000 employees. Thus, we estimate that as many as 1,166 small entities may be affected.

10. Some of the rules adopted herein affect VHF public coast station licensees. The Commission has defined the term “small entity” specifically applicable to public coast station licensees as any entity employing less than 1,500 persons, based on the definition under the Small Business Administration rules applicable to radiotelephone service providers. See Amendment of the Commission's rules Concerning Maritime Communications, Third Report and Order and Memorandum Opinion and Order, 13 FCC Rcd 19853, 19893 (1998) (citing 13 CFR 121.201, Standard Industrial Classification (SIC) Code 4812, now NAICS Code 513322). Since the size data provided by the Small Business Administration do not enable us to make a meaningful estimate of the number of public coast station licensees that are small businesses, we have used the 1992 Census of Transportation, Communications, and Utilities, conducted by the Bureau of the Census, which is the most recent information available. This document shows that twelve radiotelephone firms out of a total of 1,178 such firms which operated in 1992 had 1,000 or more employees. Thus, we estimate that no fewer than 1,166 small entities will be affected.

11. Some of the rules adopted herein may also affect small businesses that manufacture marine radio equipment. The Commission has not developed a definition of small entities applicable to marine radio equipment manufacturers. Therefore, the applicable definition is that for Wireless Communications Equipment Manufacturers. The SBA has established a small business size standard for radio and television broadcasting and wireless communications equipment manufacturing. Under this standard, firms are considered small if they have 750 or fewer employees. Census Bureau data for 1997 indicate that, for that year, there were a total of 1,215 establishments in this category. Of those, there were 1,150 that had employment under 500, and an additional 37 that had employment of 500 to 999. The percentage of wireless equipment manufacturers in this category is approximately 61.35%, so the Commission estimates that the number of wireless equipment manufacturers with employment under 500 was actually closer to 706, with and additional 23 establishments having employment of between 500 and 999. The Commission estimates that the great majority of wireless communications equipment manufacturers are small businesses.

D. Description of Projected Reporting, Recordkeeping, and Other Compliance Requirements for Small Entities

12. In the Second Report and Order, we adopt several rule amendments that may affect reporting, recordkeeping and other compliance requirements for small entities. First, we amend § 80.203 of the rules to bar ship stations from including any device capable of transmitting on a distress frequency without regulatory authorization. This prohibition could affect small entities that manufacture ship radio equipment. Second, we amend § 80.215(g)(3) to require that ship station transmitters have Channels 75 and 76, and automatically reduce the carrier power to one watt or less when tuned those channels, with no manual override capability. This new requirement could affect small entities that manufacture or use such transmitters. Third, we adopt a number of new requirements for small passenger vessels: a requirement that the VHF and MF radios already mandated by § 80.905(a) of the rules be DSC-equipped; a requirement that the single sideband (SSB) radios required to be carried by ships operating over one hundred nautical miles from shore be DSC-equipped; a requirement that the INMARSAT ship earth stations that may be carried by ships operating more than one hundred nautical miles from shore in lieu of an SSB radio be limited to specified classes of earth stations; a requirement that vessels required to carry a SSB radio with a reserve power supply also carry a reserve power supply for the navigation receiver; and a requirement for updating position information. These requirements may have a direct economic impact on operators of small passenger vessels. Finally, we amend § 80.1085 of the rules to require that every passenger ship be provided with means for two-way on-scene radiocommunications for search and rescue purposes using the aeronautical frequencies 121.5 and 123.1 MHz from the position from which the ship is normally navigated.

13. In the IRFA accompanying the FNPRM in this proceeding, we specifically identified each of the above rule amendments as potentially affecting reporting, recordkeeping and other compliance requirements, and specifically requested comment on the economic impact of these changes.

E. Steps Taken To Minimize the Significant Economic Impact on Small Entities, and Significant Alternatives Considered

14. The RFA requires an agency to describe any significant alternatives that it has considered in developing its approach, which may include the following four alternatives (among others): “(i) The establishment of differing compliance or reporting requirements or timetables that take into account the resources available to small entities; (ii) the clarification, consolidation, or simplification of compliance and reporting requirements under the rule for such small entities; (iii) the use of performance rather than design standards; and (iv) an exemption from coverage of the rule, or any part thereof, for such small entities.”

15. With respect to all of the rules adopted in the Second Report and Order that may affect reporting, recordkeeping and other compliance requirements for small entities, as identified in section D of the FRFA, supra, we have considered how we might minimize the economic impact on small entities, and we have considered alternative measures that might minimize that impact. As a general matter, the alternatives considered, and in many cases adopted, include exempting small entities from the requirement; providing “grandfathering” protection from the requirement; providing a transition period to give either small entities or all affected entities additional time to come into compliance; and imposing a less burdensome requirement, either for small entities or for all affected entities. In addition, to the extent we establish here new standards for authorization of marine radio equipment, we have generally required compliance with performance standards, rather than prescribing a particular equipment design. In the IRFA accompanying the FNPRM in this proceeding, we specifically requested comment addressing particular alternatives that may be appropriate for particular rules proposed or discussed in the FNPRM. Although we received no comments specifically addressed to the IRFA, we have considered all comments to the FNPRM addressing the impact of any proposed change on small entities and all suggestions for alternative measures that would have a less significant impact on small entities. Moreover, even where we received no comments of this nature with regard to a particular new requirement, we considered the potential impact of the requirement on small entities, and considered alternatives. We discuss each of the specific new requirements adopted in the Second Report and Order, and relevant alternatives, below.

16. In the Second Report and Order, we amend § 80.203 of the rules to bar ship stations from including any device capable of transmitting on a distress frequency without regulatory authorization. This rule change had been proposed by the Coast Guard, and the FNPRM specifically asked for comment on whether this rule change would hamper the ability of manufacturers to add tone signaling capability or to otherwise improve their equipment. However, no manufacturer commented on this rule change, no commenter opposed it, and there is nothing in the record to indicate that it will adversely effect manufacturers. In any event, given that this rule change does not require manufacturers to add any features or capabilities to equipment, but merely prohibits what was never affirmatively authorized in the first place, there is no reason to phase in this requirement gradually. Further, there is no basis in the record to exempt manufacturers that are small entities from this requirement. Any such exemption, moreover, would jeopardize maritime safety since any unauthorized emissions on a distress frequency, from whatever source, could compromise the ability of the Coast Guard to process and respond to distress signals.

17. In the Second Report and Order, we amend § 80.215(g)(3) to require that ship station transmitters have Channels 75 and 76, and automatically reduce the carrier power to one watt or less when tuned those channels, with no manual override capability. In the FNPRM, the Commission expressed concern about the impact of this rule on manufacturers, and specifically solicited comment on appropriate grandfathering protection if the new requirements are adopted. No manufacturer commented on the proposed equipment requirements relating to Channels 75 and 76, and no one opposed such requirements. The only commenter responding to the Commission's request for input on appropriate grandfathering protection was the Coast Guard, which stated simply that it supports grandfathering protection of some sort. Notwithstanding the absence of comment on this issue from manufacturers or vessel operators, we have provided both grandfathering protection for existing installed equipment and a transitional period before new installations have to comply with the new requirements. Specifically, non-compliant equipment installed prior to the effective date of these rules is grandfathered indefinitely, so that it may continue to be used for its remaining useful life. In addition, we are allowing installations of non-compliant equipment until one year after the effective date of the Second Report and Order. We believe these actions will effectively minimize the compliance burden of this requirement on manufacturers and ship station licensees, especially any affected small entities. Given that no manufacturers commented on these rules, we do not believe this approach will leave manufacturers with stranded inventory. We decline to exempt small entities from these requirements because the benefits of designating Channels 75 and 76 for port operations, and the associated equipment requirements, cannot be fully realized unless access to Channels 75 and 76 is ubiquitous, and because there is nothing in the record of this proceeding to suggest a need for such an exemption, especially given the grandfathering and transition provisions we have adopted.

18. In the Second Report and Order, we adopt a requirement that the VHF and MF radios already mandated by § 80.905(a) of the rules be DSC-equipped. The Passenger Vessel Association (PVA) filed comments opposing this requirement. PVA contends that small passenger vessels that are not subject to GMDSS requirements under SOLAS should not be required to meet GMDSS-derived equipment requirements such as this. PVA further asserts that many of the vessel operators that will be affected by this requirement are small businesses, and suggested that, instead of eliminating or tightening the exemption, the Commission should broaden the exemption to cover all passenger-carrying vessels, irrespective of size, that operate in protected waterways, such as harbors, bays and waterways covered by Vessel Traffic Systems. We decline to exempt any class of vessels otherwise subject to § 80.905(a) from the new DSC requirement, even with respect to vessels owned and operated by small businesses and/or restricted to voyages in particular inland or coastal waterways. We agree with the Coast Guard and the GMDSS Task Force that the public safety benefits of imposing this requirement on small passenger vessels are paramount. DSC represents an important enhancement of maritime safety, and requiring DSC capability in small passenger vessels, even those limited to voyages on protected waterways, will provide safety benefits not only to the passengers and crew on such vessels, but to all GMDSS participating vessels. We also believe, moreover, that the compliance costs of this requirement will not be significant because, pursuant to § 80.203(n) of the Commission's rules, the Commission already requires that all VHF and MF marine radio transmitters submitted for equipment authorization have DSC capability. In fact, the DSC requirement has applied to all VHF and MF marine radio transmitters submitted for equipment authorization since June 17, 1999. As a consequence of this requirement, more and more of the new equipment available in the market will be DSC-capable. In addition, as a means to minimize whatever compliance costs are incurred by small passenger vessel operators, we have decided to defer the compliance deadline for this requirement. We will not require that VHF radios be upgraded to DSC until one year after the Coast Guard declares Sea Area A1 to be operational, and we will not require that MF radios be upgraded to DSC until one year after the Coast Guard declares Sea Area A2 to be operational. This compliance deadline is sufficiently far off that it will give affected small passenger vessel operators ample time to plan and budget for the required upgrades. In addition, as the deadline for compliance extends further into the future, it is likely that there will be fewer non-DSC transmitters in manufacturers' and retailers' inventory (because of the DSC requirement in § 80.203(n)), and we therefore expect that most new VHF and MF radio equipment available in the market during the time period immediately preceding the compliance deadline will have DSC capability, further minimizing the economic impact on small entities.

19. In the Second Report and Order, we adopt a requirement that the SSB radios required of ships operating over one hundred nautical miles from shore, pursuant to § 80.905, be DSC-equipped. The Coast Guard was the only party directly commenting on this issue, and it stated that, as in the case of VHF and MF radio equipment, requiring DSC capabilities in SSB radios will provide significant safety advantages over non-DSC equipment. No party opposed this requirement or attempted to quantify the compliance costs. On this record, then, we believe considerations of maritime safety should be given paramount weight. Indeed, given that the subject vessels by definition operate more than one hundred nautical miles from shore, the safety benefits of this requirement are even greater than those we have adopted for VHF and MF radios in vessels that do not operate so far from shore. Significantly, DSC capability will enhance the ability of passenger vessels on such voyages to contact nearby ships as well as shore facilities. Although we decline to exempt small passenger vessel operators that qualify as small entities from this DSC requirement, we have determined to give affected parties until one year after the effective date of the Second Report and Order before requiring compliance. We believe this reasonably fulfills the objective of minimizing compliance costs for small entities without compromising the objective of promoting public safety on the high seas. We do not hinge the compliance deadline in this case on the timing of the Coast Guard's declaration of Sea Area A1 or Sea Area A2 because vessels operating more than one hundred nautical miles from shore are operating in Sea Area A3.

20. In the Second Report and Order, we adopt a requirement that the INMARSAT ship earth stations that may be carried by ships operating more than one hundred nautical miles from shore in lieu of an SSB radio, pursuant to § 80.905, be limited to specified classes of earth stations. We do not believe this requirement should have a significant impact on any small entities. No commenter opposed this proposal. In addition, we note that the rule merely permits the use of an INMARSAT earth station as an alternative to other equipment, rather than mandating the use of an INMARSAT earth station in all instances. Nonetheless, we have decided to relax the requirement, as it was proposed in the FNPRM, by adding the INMARSAT Mini-M to the list of approved earth stations. As thus revised, we believe the adopted rule represents a reasonable compromise between tightening the existing rule for safety reasons while according a fair measure of flexibility to small passenger vessel operators, especially small entities, in selecting an earth station that will be deemed suitable to obviate the need for an SSB radio.

21. In the Second Report and Order, we extend the current § 80.905 SSB reserve power supply requirement to the navigation receiver. No party has opposed this proposal or provided information that would permit a quantification of estimated compliance costs. The Coast Guard, the only commenter on this issue, urges adoption of the requirement because of the safety benefits. We agree with the Coast Guard. Since this rule merely extends an existing reserve power supply requirement to an additional piece of equipment, and there have been no comments in opposition to this proposal, we see no basis for exempting small entities from this requirement or providing an extended implementation period.

22. In the Second Report and Order, we adopt a new requirement specifying that vessels subject to § 80.905 must comply with the requirement in § 80.1085(c) for updating position information. In discussing the proposal for this rule in the FNPRM, the Commission observed that its adoption would impose a GMDSS requirement on small passenger vessels. The only party commenting on this matter was the Coast Guard, which reiterated its support for this requirement because it will enable the Coast Guard to locate mariners in a more timely manner and better utilize its limited resources. No party opposed this requirement, and the record is devoid of information as to the costs of compliance. Accordingly, we find no basis in the record to exempt some small passenger vessels from this requirement or to delay its implementation through a phased-in schedule.

23. Finally, in the Second Report and Order, we amend § 80.1085 of the rules to require that every passenger ship be provided with means for two-way on-scene radiocommunications for search and rescue purposes using the aeronautical frequencies 121.5 and 123.1 MHz from the position from which the ship is normally navigated. PVA argues that a requirement for on-scene radios with aeronautical frequencies is expensive and is not useful outside of open ocean environments. It urges that this requirement not be imposed upon passenger vessels operating in or near coastal, inland, and other protected waters. More broadly, PVA complains that the USCG's proposals in this proceeding indicate that the USCG is seeking to extend equipment requirements that are justified for vessels in open-ocean service to vessels on domestic voyages. We agree with PVA that equipment requirements that make sense for vessels on the open ocean should not be extended without further analysis to vessels that stay closer to shore. However, we disagree with PVA that an on-scene capability for two-way radiocommunications with aircraft using the aeronautical frequencies 121.5 and 123.1 MHz offers no potential safety benefits to vessels on domestic voyages. We believe that the ability to communicate with helicopters or other aircraft involved in search and rescue operations could save lives where, for example, a passenger vessel catches fire and is exuding thick smoke on an inland waterway. We further believe that these safety benefits militate against exempting certain vessels from this requirement, based either on the operator's small business status or the restriction of the vessel to inland or protected waterways, or a combination of both factors. Additionally, we do not believe that adopting this requirement in the part 80 rules imposes a new compliance cost on passenger vessels since the requirement was imposed internationally under SOLAS well before the release of this order. Moreover, because the safety benefits of this requirement are not dependent on GMDSS implementation, and because passenger vessels are already required to have this capability under SOLAS, we see no reason to defer the effective date of this requirement to one year after Sea Area A1 or Sea Area A2 implementation, as we have done with some of the other requirements adopted herein in the interest of reducing compliance costs. However, we believe it is appropriate to defer the effective date for this requirement for some shorter period in order to mitigate the compliance costs for small passenger vessel operators. Accordingly, we will make this requirement effective six months after the effective date of the Second Report and Order.

F. Federal Rules that May Duplicate, Overlap, or Conflict With the Proposed Rules

24. None.

Report to Congress: The Commission will send a copy of the Second Report and Order in WT Docket No. 00-48, including the Final Regulatory Flexibility Analysis, in a report to be sent to Congress pursuant to the Congressional Review Act. In addition, the Commission will send a copy of the Second Report and Order in WTB Docket No. 00-48, including the Final Regulatory Flexibility Analysis, to the Chief Counsel for Advocacy of the SBA.

Sixth Report and Order in PR Docket No. 92-257

25. As required by the RFA, the Commission has also prepared a FRFA of the rules adopted in the Sixth Report and Order in PR Docket No. 92-257. The Commission's Consumer and Governmental Affairs Bureau, Reference Information center, will send a copy of the Sixth Report and Order in PR Docket No. 92-257, including the FRFA, to the Chief Counsel for Advocacy of the Small Business Administration, in accordance with the RFA.

A. Need for, and Objectives of, the Sixth Report and Order

26. The rules adopted in the Sixth Report and Order are intended to further streamline, consolidate and clarify the Commission's part 80 rules governing VHF public coast (VPC) stations; remove unnecessary or duplicative requirements; address new international maritime requirements; and promote flexibility and efficiency in the use of marine radio equipment in a manner that will further maritime safety. Specifically, in the Sixth Report and Order the Commission (i) clarifies the responsibilities of VPC stations as to when they must maintain a watch on the Channel 16 distress frequency and as to their obligation to notify the Coast Guard of a station relocation; (ii) generally declines to impose additional technical requirements for VPC stations operating on offset channels; (iii) denies a request that nine channel pairs now allocated for public safety and other private land mobile radio operations be reallocated for use by VPC stations; (iv) adopts new rules to govern the implementation of Automatic Identification Systems; (v) establishes a new emission mask in Part 80 to accommodate a wide range of data services; (vi) eliminates the station identification requirement for VPC stations licensed on a geographic area basis; (vii) authorizes VPC stations to maintain required station records in electronic form; (viii) relaxes the posting requirement for VPC stations; and (ix) provides a clarification in the rules that VPC stations, like other providers of commercial mobile radio services, have been relieved of certain filing requirements as a matter of forbearance.

B. Summary of Significant Issues Raised by Public Comments in Response to the IRFA

27. No comments were submitted specifically in response to the IRFA. Nonetheless, we have considered the potential economic impact on small entities of the rules discussed in the IRFA, and we have considered alternatives that would reduce the potential economic impact on small entities of the rules enacted herein.

C. Description and Estimate of the Number of Small Entities to Which Rules Will Apply

28. The RFA directs agencies to provide a description of and, where feasible, an estimate of the number of small entities that may be affected by the rules adopted herein. The RFA defines the term “small entity” as having the same meaning as the terms “small business,” “small organization,” and “small governmental jurisdiction.” In addition, the term “small business” has the same meaning as the term “small business concern” under the Small Business Act. A small business concern is one which: (i) Is independently owned and operated; (ii) is not dominant in its field of operation; and (iii) satisfies any additional criteria established by the Small Business Administration (SBA).

29. Small businesses in the aviation and marine radio services use a marine very high frequency (VHF), medium frequency (MF), or high frequency (HF) radio, any type of emergency position indicating radio beacon (EPIRB) and/or radar, an aircraft radio, and/or any type of emergency locator transmitter (ELT). The Commission has not developed a definition of small entities specifically applicable to these small businesses. For purposes of this FRFA, therefore, the applicable definition of small entity is the definition under the SBA rules applicable to wireless telecommunications. Pursuant to this definition, a “small entity” for purposes of the ship station licensees, public coast station licensees, or other marine radio users that may be affected by these rules, is any entity employing 1,500 of fewer persons. 13 CFR 121.201 (NAICS Code 517212). Since the size data provided by the Small Business Administration do not enable us to make a meaningful estimate of the number of marine radio service providers and users that are small businesses, we have used the 1992 Census of Transportation, Communications, and Utilities, conducted by the Bureau of the Census, which is the most recent information available. This document shows that twelve radiotelephone firms out of a total of 1,178 such firms which operated in 1992 had at least 1,000 employees. Thus, we estimate that as many as 1,166 small entities may be affected.

30. Some of the rules adopted herein affect VHF public coast station licensees. The Commission has defined the term “small entity” specifically applicable to public coast station licensees as any entity employing less than 1,500 persons, based on the definition under the Small Business Administration rules applicable to radiotelephone service providers. See Amendment of the Commission's Rules Concerning Maritime Communications, Third Report and Order and Memorandum Opinion and Order, 13 FCC Rcd 19853, 19893 (1998) (citing 13 CFR 121.201, Standard Industrial Classification (SIC) Code 4812, now NAICS Code 517212). Since the size data provided by the Small Business Administration do not enable us to make a meaningful estimate of the number of public coast station licensees that are small businesses, we have used the 1992 Census of Transportation, Communications, and Utilities, conducted by the Bureau of the Census, which is the most recent information available. This document shows that twelve radiotelephone firms out of a total of 1,178 such firms which operated in 1992 had 1,000 or more employees. Thus, we estimate that no fewer than 1,166 small entities will be affected.

31. Some of the rules adopted herein may also affect small businesses that manufacture marine radio equipment. The Commission has not developed a definition of small entities applicable to marine radio equipment manufacturers. Therefore, the applicable definition is that for Wireless Communications Equipment Manufacturers. The SBA has established a small business size standard for radio and television broadcasting and wireless communications equipment manufacturing. Under this standard, firms are considered small if they have 750 or fewer employees. Census Bureau data for 1997 indicate that, for that year, there were a total of 1,215 establishments in this category. Of those, there were 1,150 that had employment under 500, and an additional 37 that had employment of 500 to 999. The percentage of wireless equipment manufacturers in this category is approximately 61.35%, so the Commission estimates that the number of wireless equipment manufacturers with employment under 500 was actually closer to 706, with and additional 23 establishments having employment of between 500 and 999. Given the above, the Commission estimates that the great majority of wireless communications equipment manufacturers are small businesses.

32. D. Description of Projected Reporting, Recordkeeping, and Other Compliance Requirements for Small Entities

33. The Sixth Report and Order does not impose any additional reporting, recordkeeping, or other compliance requirements on small entities. The rule amendments adopted in the Sixth Report and Order generally relieve VPC station licensees of existing requirements or relax those requirements. The Sixth Report and Order does amend section 80.302(a) of the Commission's rules to expressly mandate that VPC licensees subject to a Channel 16 watch requirement must notify the Coast Guard as soon as practicable of a relocation of the station. This requirement was not opposed by any party. In fact, the only parties commenting on the issue—the Coast Guard and a VPC licensee—urged the Commission to adopt this rule change. Accordingly, we do not believe this requirement will have a direct and significant economic impact on any small entities or, for that matter, any entities at all. In any event, and as we state in the Sixth Report and Order, this is not a new or additional requirement. Prior to the amendment adopted herein, section 80.302(a) specified that a VPC licensee subject to the watch requirement must notify the Coast Guard as soon as practicable when there is any change in the operation of the station that would result in a “discontinuance, reduction or suspension” of the watch. We believe this language already encompassed a requirement to notify the Coast Guard of a relocation of the watch, and we have amended the rule only to clarify the point, as requested by the commenters.

E. Steps Taken to Minimize the Significant Economic Impact on Small Entities, and Significant Alternatives Considered

34. The RFA requires an agency to describe any significant alternatives that it has considered in developing its approach, which may include the following four alternatives (among others): “(i) the establishment of differing compliance or reporting requirements or timetables that take into account the resources available to small entities; (ii) the clarification, consolidation, or simplification of compliance and reporting requirements under the rule for such small entities; (iii) the use of performance rather than design standards; and (iv) an exemption from coverage of the rule, or any part thereof, for such small entities.”

35. As explained in section D of the FRFA, supra, the Sixth Report and Order does not impose any additional reporting, recordkeeping, or other compliance requirements on small entities. The rule amendments adopted in the Sixth Report and Order generally relieve VPC station licensees of existing requirements or relax those requirements.

F. Federal Rules that May Duplicate, Overlap, or Conflict With the Proposed Rules

36. None.

Report to Congress: The Commission will send a copy of the Sixth Report and Order in PR Docket No. 92-257, including the Final Regulatory Flexibility Analysis, in a report to be sent to Congress pursuant to the Congressional Review Act. In addition, the Commission will send a copy of the Sixth Report and Order in PR Docket No. 92-257, including the Final Regulatory Flexibility Analysis, to the Chief Counsel for Advocacy of the SBA.

II. Ordering Clauses

33. The Commission's Consumer Information Bureau, Reference Information Center, shall send a copy of the Second Report and Order/Sixth Report and Order including the Final Regulatory Flexibility Analyses to the Chief Counsel for Advocacy of the Small Business Administration.

List of Subjects

47 CFR Part 13

Radio.

47 CFR Part 80

Communications equipment, Incorporation by reference, Marine safety, Radio, Reporting and recordkeeping requirements.

Federal Communications Commission.
William F. Caton,
Deputy Secretary.

Rule Changes

For the reasons discussed in the preamble, the Federal Communications Commission amends 47 CFR Parts 13 and 80 as follows:

PART 13—COMMERCIAL RADIO OPERATORS

1. The authority citation for part 13 continues to read as follows:

Authority: Secs. 4, 303, 48 Stat. 1066, 1082 as amended; 47 U.S.C. 154, 303.

2. Section 13.203 is amended by revising paragraph (a)(5), redesignating paragraphs (a)(6) and (a)(7) as paragraphs (a)(7) and (a)(8), and adding a new paragraph (a)(6) to read as follows:

§ 13.203 Examination elements.

(a) * * *

(5) Element 7: GMDSS radio operating practices. 100 questions concerning GMDSS radio operating procedures and practices sufficient to show detailed practical knowledge of the operation of all GMDSS sub-systems and equipment; ability to send and receive correctly by radio telephone and narrow-band direct-printing telegraphy; detailed knowledge of the regulations applying to radio communications, knowledge of the documents relating to charges for radio communications and knowledge of those provisions of the International Convention for the Safety of Life at Sea which relate to radio; sufficient knowledge of English to be able to express oneself satisfactorily both orally and in writing; knowledge of and ability to perform each function listed in § 80.1081; and knowledge covering the requirements set forth in IMO Assembly Resolution on Training for Radio Personnel (GMDSS), Annex 3. The minimum passing score is 75 questions answered correctly.

(6) Element 7R: Restricted GMDSS radio operating practices. 50 questions concerning those GMDSS radio operating procedures and practices that are applicable to ship stations on vessels that sail exclusively in sea area A1, as defined in § 80.1069 of this chapter, sufficient to show detailed practical knowledge of the operation of pertinent GMDSS sub-systems and equipment; ability to send and receive correctly by radio telephone and narrow-band direct-printing telegraphy; detailed knowledge of the regulations governing radio communications within sea area A1, knowledge of the pertinent documents relating to charges for radio communications and knowledge of the pertinent provisions of the International Convention for the Safety of Life at Sea; sufficient knowledge of English to be able to express oneself satisfactorily both orally and in writing; knowledge of and ability to perform each pertinent function listed in § 80.1081; and knowledge covering the pertinent requirements set forth in IMO Assembly Resolution on Training for Radio Personnel (GMDSS), Annex 3. The minimum passing score is 38 questions answered correctly.

* * * * *

PART 80—STATIONS IN THE MARITIME SERVICES

3. The authority citation for Part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

4. Section 80.15 is amended by revising paragraph (e)(2) to read as follows:

§ 80.15 Eligibility for station license.

* * * * *

(e) * * *

(2) A 406.0-406.1 MHz EPIRB may be used by any ship required by U.S. Coast Guard regulations to carry an EPIRB or by any ship that is equipped with a VHF ship radio station. An INMARSAT-E EPIRB may be used by any ship required by U.S. Coast Guard regulations to carry an EPIRB or by any ship that is equipped with a VHF radio station, provided that the ship is not operating in sea area A4 as defined in § 80.1069(a)(4).

* * * * *

5. Section 80.59 is amended by revising paragraph (c)(1)(x) to read as follows:

§ 80.59 Compulsory ship inspections.

* * * * *

(c) * * *

(1) * * *

(x) Type and quantity of radio equipment on board, including:

(A) VHF Radio Installation (indicate if GMDSS approved);

(B) Single Side-Band (SSB) (indicate the band of operation, MF or HF and indicate if GMDSS approved);

(C) Category 1, 406 MHz EPIRB (GMDSS approved);

(D) NAVTEX Receiver (GMDSS approved);

(E) Survival Craft VHF (GMDSS approved);

(F) 9 GHz Radar Transponder (GMDSS approved);

(G) Ship Earth Station;

(H) 2182 Radiotelephone Auto Alarm

(I) Reserve Power Supply (capability); and

(J) Any other equipment.

* * * * *

6. Section 80.95 is amended by revising paragraph (a) introductory text to read as follows:

§ 80.95 Message charges.

(a) Except as specified in § 20.15(c) of this chapter with respect to commercial mobile radio service providers, charges must not be made for service of:

* * * * *

7. Section 80.98 is revised to read as follows:

§ 80.98 Radiotelegraph testing procedures.

Stations authorized to use telegraphy may conduct tests on any assigned frequency. Emissions must not cause harmful interference. When radiation is necessary the radiotelegraph testing procedure described in this paragraph must be followed:

(a) The operator must not interfere with transmissions in progress.

(b) The operator must transmit “IE” (two dots, space, one dot) on the test frequency as a warning that test emissions are about to be made.

(c) If any station transmits “AS” (wait), testing must be suspended. When transmission of “IE” is resumed and no response is heard, the test may proceed.

(d) Test signals composed of a series of “VVV” having a duration of not more than ten seconds, followed by the call sign of the testing station will be transmitted. The call sign must be sent clearly at a speed of approximately 10 words per minute. This test transmission must not be repeated until a period of at least one minute has elapsed.

8. Section 80.102 is amended by revising paragraph (f) to read as follows:

§ 80.102 Radiotelephone station identification.

* * * * *

(f) VHF public coast stations licensed to serve a predetermined geographic service area are not required to provide station identification under this section. A site-based VHF public coast station may identify by means of the approximate geographic location of the station or the area it serves when it is the only VHF public coast station serving the location or there will be no conflict with the identification of any other station.

§ 80.142 [Amended]

9. Section 80.142 is amended by removing paragraph (c)(1)(i) and redesignating paragraphs (c)(1)(ii) and (c)(1)(iii) as (c)(1)(i) and (c)(1)(ii).

10. Section 80.203 is amended by adding a new paragraph (m)(6) to read as follows:

§ 80.203 Authorization of transmitters for licensing.

* * * * *

(m) * * *

(6) No ship station shall include any device or provision capable of transmitting any tone or signal on a distress frequency for any purpose unless specific provisions exist in this Part authorizing such tone or signal.

* * * * *

11. Section 80.207 is amended by revising paragraph (d) to read as follows:

§ 80.207 Classes of emission.

* * * * *

(d) The authorized classes of emission are as follows:

Types of stations | Classes of emission
Ship Stations ¹
Radiotelegraphy:
100-160 kHz | A1A
405-525 kHz | A1A, J2A
1605-27500 kHz:
Manual ¹⁵ ¹⁶ ¹⁷ | A1A, J2A, J2B, J2D
DSC ⁶ | F1B, J2B
NB-DP ¹⁴ ¹⁶ | F1B, J2B, J2D
Facsimile | F1C, F3C, J2C, J3C
156-162 MHz ² | F1B, F2B, F2C, F3C, F1D, F2D
DSC | G2B
216-220 MHz ³ | F1B, F2B, F2C, F3C
1626.5-1646.5 MHz | (⁴)
Radiotelephony:
1605-27500 kHz ⁵ ¹⁶ | H3E, J2D, J3E, R3E
27.5-470 MHz ⁶ | G3D, G3E
162.5-1646.5 MHz | (⁴)
Radiodetermination:
285-325 kHz ⁷ | A1A, A2A
405-525 kHz (Direction Finding) ⁸ | A3N, H3N, J3N, NON
154-459 MHz ¹² | A1D, A2D, F1D, F2D, G1D, G2D
2.4-9.5 GHz | PON
14.00-14.05 GHz | F3N
Land Stations ¹
Radiotelegraphy:
100-160 kHz | A1A
405-525 kHz | A1A, J2A
1605-2850 kHz:
Manual | A1A, J2A
Facsimile | F1C, F3C, J2C, J3C
Alaska—Fixed | A1A, J2A
4000-27500 kHz:
Manual ¹⁶ | A1A, J2A, J2B, J2D
DSC ¹⁸ | F1B, J2B
NB-DP ¹⁴ ¹⁸ | F1B, J2B, J2D
Facsimile | F1C, F3C, J2C, J3C
Alaska-Fixed¹⁷ ¹⁸ | A1A, A2A, F1B, F2B, J2B, J2D
72-76 MHz ² ¹⁸ | A1A, A2A, F1B, F2B
156-162 MHz ² ²⁰ | F1B, F2B, F2C, F3C, F1D, F2D
DSC | G2B
216-220 MHz ³ | F1B, F2B, F2C, F3C
Radiotelephony:
1605-27500 kHz ¹⁸ ¹⁹ | H3E, J3E, R3E
72-76 MHz | A3E, F3E, G3E
156-470 MHz | G3E
Radiodetermination:
2.4-9.6 GHz | PON
Distress, Urgency and Safety ⁸ ⁹
2182 kHz ¹⁰ ¹¹ | A2B, A3B, H2B, H3E, J2B, J3E
121.500 MHz | A3E, A3X, N0N
123.100 MHz | A3E
156.750 and 156.800 MHz ¹³ | G3E, G3N
243.000 MHz | A3E, A3X, N0N
406.025 MHz | G1D
¹ Excludes distress, EPIRBs, survival craft, and automatic link establishment.
² Frequencies used for public correspondence and in Alaska 156.425 MHz. See §§ 80.371(c), 80.373(f) and 80.385(b). Transmitters approved before January 1, 1994, for G3E emissions will be authorized indefinitely for F2C, F3C, F1D and F2D emissions. Transmitters approved on or after January 1, 1994, will be authorized for F2C, F3C, F1D or F2D emissions only if they are approved specifically for each emission designator.
³ Frequencies used in the Automated Maritime Telecommunications System (AMTS). See § 80.385(b).
⁴ Types of emission are determined by the INMARSAT Organization.
⁵ Transmitters approved prior to December 31, 1969, for emission H3E, J3E, and R3E and an authorized bandwidth of 3.5 kHz may continue to be operated. These transmitters will not be authorized in new installations.
⁶ G3D emission must be used only by one-board stations for maneuvering or navigation.
⁷ Frequencies used for cable repair operations. See § 80.375(b).
⁸ For direction finding requirements see § 80.375.
⁹ Includes distress emissions used by ship, coast, EPIRBs and survival craft stations.
¹⁰ On 2182 kHz A1B, A2B, H2B and J2B emissions indicate transmission of the auto alarm signals.
¹¹ Ships on domestic voyages must use J3E emission only.
¹² For frequencies 154.585 MHz, 159.480 MHz, 160.725 MHz, 160.785 MHz, 454.000 MHz and 459.000 MHz, authorized for offshore radiolocation and related telecommand operations.
¹³ Class C EPIRB stations may not be used after February 1, 1999.
¹⁴ NB-DP operations which are not in accordance with CCIR Recommendation 625 or 476 are permitted to utilize any modulation, so long as emissions are within the limits set forth in § 80.211(f).
¹⁵ J2B is permitted only on 2000-27500 kHz.
¹⁶ J2D is permitted only on 2000-27500 kHz, and ship stations employing J2D emissions shall at no time use a peak envelope power in excess of 1.5 kW per channel.
¹⁷ J2B and J2D are permitted provided they do not cause harmful interference to A1A.
¹⁸ Coast stations employing J2D emissions shall at no time use a peak envelope power in excess of 10 kW per channel.
¹⁹ J2D is permitted only on 2000-27500 kHz.
²⁰ If a station uses another type of digital emission, it must comply with the emission mask requirements of § 90.210 of this Chapter, except that Automatic Identification System (AIS) transmissions do not have to comply with the emission mask requirements of § 90.210 of this Chapter.

12. Section 80.213 is amended by revising paragraph (d) to read as follows:

§ 80.213 Modulation requirements.

* * * * *

(d) Ship and coast station transmitters operating in the 156-162 MHz and 216-220 bands must be capable of proper operation with a frequency deviation that does not exceed ±5 kHz when using any emission authorized by § 80.207.

* * * * *

13. Section 80.215 is amended by revising paragraph (g) to read as follows:

§ 80.215 Transmitter power.

* * * * *

(g) The carrier power of ship station radiotelephone transmitters, except portable transmitters, operating in the 156-162 MHz band must be at least 8 but not more than 25 watts. Transmitters that use 12 volt lead acid storage batteries as a primary power source must be measured with a primary voltage between 12.2 and 13.7 volts DC. Additionally, unless otherwise indicated, equipment in radiotelephone ship stations operating in the 156-162 MHz band must meet the following requirements:

(1) All transmitters and remote control units must be capable of reducing the carrier power to one watt or less;

(2) Except as indicated in (g)(4) of this section, all transmitters manufactured after January 21, 1987, or in use after January 21, 1997, must automatically reduce the carrier power to one watt or less when the transmitter is tuned to 156.375 MHz or 156.650 MHz, and must be provided with a manual override switch which when held by an operator will permit full carrier power operation on 156.375 MHz and 156.650 MHz;

(3) Except as indicated in (g)(4) of this section, all ship station transmitters installed after January 9, 2006, must be capable of tuning to 156.775 MHz and 156.825 MHz and must automatically reduce the carrier power to one watt or less, with no manual override capability, when the transmitter is tuned to either 156.775 MHz or 156.825 MHz;

(4) Hand-held portable transmitters are not required to comply with the automatic reduction of carrier power in (g)(2) of this section; and

(5) Transmitters dedicated for use on public correspondence duplex channels as additional equipment to a VHF ship station in the Great Lakes which meet all pertinent rules in this part are not required to reduce their carrier power to one watt.

* * * * *

14. Section 80.275 is added to read as follows:

§ 80.275 Technical Requirements for Automatic Identification Systems (AIS) equipment.

(a) Prior to submitting a certification application for an AIS device, the following information must be submitted in duplicate to the Commandant (G-MSE), U.S. Coast Guard, 2100 2nd Street, SW., Washington DC 20593-0001:

(1) The name of the manufacturer or grantee and the model number of the AIS device;

(2) Copies of the test report and test data obtained from the test facility showing that the device complies with the environmental and operational requirements identified in § 80.1101.

(b) After reviewing the information described in paragraph (a) of this section, the U.S. Coast Guard will issue a letter stating whether the AIS device satisfies all of the requirements specified in § 80.1101.

(c) A certification application for an AIS device submitted to the Commission must contain a copy of the U.S. Coast Guard letter stating that the device satisfies all of the requirements specified in § 80.1101, a copy of the technical test data, and the instruction manual(s).

§ 80.301 [Amended]

14a. Section 80.301 is amended by removing paragraph (a) and redesignating paragraphs (b) through (d) as paragraphs (a) through (c).

15. Section 80.302 is amended by revising paragraph (a) to read as follows:

§ 80.302 Notice of discontinuance, reduction, or impairment of service involving a distress watch.

(a) When changes occur in the operation of a public coast station which include discontinuance, relocation, reduction or suspension of a watch required to be maintained on 2182 kHz or 156.800 MHz, notification must be made by the licensee to the nearest district office of the U.S. Coast Guard as soon as practicable. The notification must include the estimated or known resumption time of the watch.

* * * * *

16. Section 80.304 is revised to read as follows:

§ 80.304 Watch requirement during silence periods.

Each ship station operating on telephony on frequencies in the band 1605-3500 kHz must maintain a watch on the frequency 2182 kHz. This watch must be maintained at least twice each hour for 3 minutes commencing at x h.00 and x h.30 Coordinated Universal Time (UTC) using either a loudspeaker or headphone. Except for distress, urgency or safety messages, ship stations must not transmit during the silence periods on 2182 kHz.

§ 80.305 [Amended]

17. Section 80.305 is amended by removing paragraph (a)(1) and redesignating paragraphs (a)(2) and (a)(3) as paragraphs (a)(1) and (a)(2).

§ 80.306 [Removed]

18. Remove § 80.306.

19. Section 80.319 is amended by revising paragraph (c) to read as follows:

§ 80.319 Radiotelegraph distress call and message transmission procedure.

* * * * *

(c) The distress message, preceded by the distress call, must be repeated at intervals until an answer is received. The radiotelegraph alarm signal may also be repeated, if necessary.

* * * * *

20. Section 80.329 is amended by revising paragraph (d) to read as follows:

§ 80.329 Safety signals.

* * * * *

(d) The safety signal and call must be sent on one of the international distress frequencies (2182 kHz or 156.8 MHz radiotelephone). Stations which cannot transmit on a distress frequency may use any other available frequency on which attention might be attracted.

§ 80.330 [Amended]

21. Section 80.330 is amended by removing paragraph (b) and redesignating paragraphs (c) and (d) as paragraphs (b) and (c).

§ 80.355 [Amended]

22. Section 80.355 is amended by removing paragraph (b) and redesignating paragraphs (c) and (d) as paragraphs (b) and (c).

§ 80.357 [Amended]

23. Section 80.357 is amended by removing paragraph (b)(2)(iv).

24. Section 80.371 is amended by revising paragraphs (c)(1)(ii) introductory text and (c)(1)(iii) to read as follows:

§ 80.371 Public correspondence frequencies.

* * * * *

(c) * * *

(1) * * *

(ii) Service areas in the marine VHF 156-162 MHz band are VHF Public Coast Station Areas (VPCSAs). As listed in the table in this paragraph, VPCSAs are based on, and composed of one or more of, the U.S. Department of Commerce's 172 Economic Areas (EAs). See 60 FR 13114 (March 10, 1995). In addition, the Commission shall treat Guam and the Northern Mariana Islands, Puerto Rico and the United States Virgin Islands, American Samoa, and the Gulf of Mexico as EA-like areas, and has assigned them EA numbers 173-176, respectively. Maps of the EAs and VPCSAs are available for public inspection and copying at the FCC Public Reference Room, Room CY-A257, 445 12th Street, SW., Washington, DC 20554. Except as shown in the table, the frequency pairs listed in paragraph (c)(1)(i) of this section are available for assignment to a single licensee in each of the VPCSAs listed in the table in this paragraph. In addition to the EAs listed in the table in this paragraph, each VPCSA also includes the adjacent waters under the jurisdiction of the United States. * * *

(iii) Subject to paragraph (c)(3) of this section, each licensee may also operate on 12.5 kHz offset frequencies in areas where the licensee is authorized on both frequencies adjacent to the offset frequency, and in areas where the licensee on the other side of the offset frequency consents to the licensee's use of the adjacent offset frequency. Coordination with Canada is required for offset operations under any circumstance in which operations on either adjoining 25 kHz channel would require such coordination. See § 80.57 of this part.

* * * * *

25. Section 80.373 is amended by revising paragraph (f) to read as follows:

§ 80.373 Private communications frequencies.

* * * * *

(f) Frequencies in the 156-162 MHz band. The following tables describe the carrier frequencies available in the 156-162 MHz band for radiotelephone communications between ship and private coast stations. (Note: the letter “A” following the channel designator indicates simplex operation on a channel designated internationally as a duplex channel.)

Frequencies in the 156-162 MHz Band
Channel designator | Carrier frequency (MHz) ship transmit | Carrier frequency (MHz) coast transmit | Points of communication (intership and between coast and ship unless otherwise indicated)
Port Operations
01A¹ | 156.050 | 156.050 |
63A¹ | 156.175 | 156.175 |
05A ² | 156.250 | 156.250
65A | 156.275 | 156.275 |
66A | 156.325 | 156.325 |
12 ³ | 156.600 | 156.600 |
73 | 156.675 | 156.675 |
14 ³ | 156.700 | 156.700 |
74 | 156.725 | 156.725 |
75 ¹⁸ | 156.775 | 156.775 |
76 ¹⁸ | 156.825 | 156.825 |
77 ⁴ | 156.875 |  | Intership only.
20A ¹² | 157.000 |  | Intership only.
Navigational (Bridge-to-Bridge) ⁵
13 ⁶ | 156.650 | 156.650
67 ⁷ | 156.375 | 156.375 |
Commercial
01A¹ | 156.050 | 156.050 |
63A¹ | 156.175 | 156.175 |
07A | 156.350 | 156.350 |
67 ⁷ | 156.375 |  | Intership only.
08 | 156.400 |  | Do.
09 | 156.450 | 156.450 |
10 | 156.500 | 156.500 |
11 ³ | 156.550 | 156.550 |
18A | 156.900 | 156.900 |
19A | 156.950 | 156.950 |
79A | 156.975 | 156.975 |
80A | 157.025 | 157.025 |
88A⁸ | 157.425 |  | Intership only.
72 ¹⁴ | 156.625 |  | Intership only.
Digital Selective Calling
70 ¹⁵ | 156.525 | 156.525 |
Noncommercial
68 ¹⁷ | 156.425 | 156.425 |
09 ¹⁶ | 156.450 | 156.450 |
69 | 156.475 | 156.475 |
71 | 156.575 | 156.575 |
72 | 156.625 |  | Intership only.
78A | 156.925 | 156.925 |
79A | 156.975 | 156.975 | Great Lakes only.
80A | 157.025 | 157.025 | Do.
67 ¹⁴ | 156.375 |  | Intership only.
Distress, Safety and Calling
16 | 156.800 | 156.800 |
Intership Safety
06 | 156.300 |  | a. Intership, or b. For SAR: Ship and aircraft for the U.S. Coast Guard.
Environmental
15 ¹³ |  | 156.750 | Coast to ship only.
Maritime Control
17 ⁹ ¹⁰ | 156.850 | 156.850 |
Liaison and Safety Broadcasts, U.S. Coast Guard
22A¹¹ | 157.100 | 157.100 | Ship, aircraft, and coast stations of the U.S. Coast Guard and at Lake Mead, Nev., ship and coast stations of the National Park Service, U.S. Department of the Interior.
¹ 156.050 MHz and 156.175 MHz are available for port operations and commercial communications purposes when used only within the U.S. Coast Guard designated Vessel Traffic Services (VTS) area of New Orleans, on the lower Mississippi River from the various pass entrances in the Gulf of Mexico to Devil's Swamp Light at River Mile 242.4 above head of passes near Baton Rouge.
² 156.250 MHz is available for port operations communications use only within the U.S. Coast Guard designated VTS radio protection areas of New Orleans and Houston described in § 80.383. 156.250 MHz is available for intership port operations communications used only within the area of Los Angeles and Long Beach harbors, within a 25-nautical mile radius of Point Fermin, California.
³ 156.550 MHz, 156.600 MHz and 156.700 MHz are available in the U.S. Coast Guard designated port areas only for VTS communications and in the Great Lakes available primarily for communications relating to the movement of ships in sectors designated by the St. Lawrence Seaway Development Corporation or the U.S. Coast Guard. The use of these frequencies outside VTS and ship movement sector protected areas is permitted provided they cause no interference to VTS and ship movement communications in their respective designated sectors.
⁴ Use of 156.875 MHz is limited to communications with pilots regarding the movement and docking of ships. Normal output power must not exceed 1 watt.
⁵ 156.375 MHz and 156.650 MHz are available primarily for intership navigational communications. These frequencies are available between coast and ship on a secondary basis when used on or in the vicinity of locks or drawbridges. Normal output power must not exceed 1 watt. Maximum output power must not exceed 10 watts for coast stations or 25 watts for ship stations.
⁶ On the Great Lakes, in addition to bridge-to-bridge communications, 156.650 MHz is available for vessel control purposes in established vessel traffic systems. 156.650 MHz is not available for use in the Mississippi River from South Pass Lighted Whistle Buoy “2” and Southwest Pass entrance Mid-channel Lighted Whistle Buoy to mile 242.4 above Head of Passes near Baton Rouge. Additionally it is not available for use in the Mississippi River-Gulf Outlet, the Mississippi River-Gulf Outlet Canal, and the Inner Harbor Navigational Canal, except to aid the transition from these areas.
⁷ Use of 156.375 MHz is available for navigational communications only in the Mississippi River from South Pass Lighted Whistle Buoy “2” and Southwest Pass entrance Mid-channel Lighted Whistle Buoy to mile 242.4 above Head of Passes near Baton Rouge, and in addition over the full length of the Mississippi River-Gulf Outlet Canal from entrance to its junction with the Inner Harbor Navigational Canal, and over the full length of the Inner Harbor Navigational Canal from its junction with the Mississippi River to its entry to Lake Pontchartrain at the New Seabrook vehicular bridge.
⁸ Within 120 km (75 miles) of the United States/Canada border, in the area of the Puget Sound and the Strait of Juan de Fuca and its approaches, 157.425 MHz is half of the duplex pair designated as Channel 88. In this area, Channel 88 is available to ship stations for communications with public coast stations only. More than 120 km (75 miles) from the United States/Canada border, in the area of the Puget Sound and the Strait of Juan de Fuca, its approaches, the Great Lakes, and the St. Lawrence Seaway, 157.425 MHz is available for intership and commercial communications. Outside Puget Sound area and its approaches and the Great Lakes, 157.425 MHz is also available for communications between commercial fishing vessels and associated aircraft while engaged in commercial fishing activities.
⁹ When the frequency 156.850 MHz is authorized, it may be used additionally for search and rescue training exercises conducted by state or local governments.
¹⁰ The frequency 156.850 MHz is additionally available to coast stations on the Great Lakes for transmission of scheduled Coded Marine Weather Forecasts (MAFOR), Great Lakes Weather Broadcast (LAWEB) and unscheduled Notices to Mariners or Bulletins. F3C and J3C emissions are permitted. Coast stations on the Great Lakes must cease weather broadcasts which cause interference to stations operating on 156.800 MHz until the interference problem is resolved.
¹¹ The frequency 157.100 MHz is authorized for search and rescue training exercises by state or local government in conjunction with U.S. Coast Guard stations. Prior U.S. Coast Guard approval is required. Use must cease immediately on U.S. Coast Guard request.
¹² The duplex pair for channel 20 (157.000/161.600 MHz) may be used for ship to coast station communications.
¹³ Available for assignment to coast stations, the use of which is in accord with an agreed program, for the broadcast of information to ship stations concerning the environmental conditions in which vessels operate, i.e., weather; sea conditions; time signals; notices to mariners; and hazards to navigation.
¹⁴ Available only in the Puget Sound and the Strait of Juan de Fuca.
¹⁵ The frequency 156.525 MHz is to be used exclusively for distress, safety and calling using digital selective calling techniques. No other uses are permitted.
¹⁶ The frequency 156.450 MHz is available for intership, ship and coast general purpose calling by noncommercial vessels, such as recreational boats and private coast stations.
¹⁷ The frequency 156.425 MHz is assigned by rule to private coast stations in Alaska for facsimile transmissions as well as voice communications.
¹⁸ The frequencies 156.775 and 156.825 MHz are available for navigation-related port operations or ship movement only, and all precautions must be taken to avoid harmful interference to channel 16. Transmitter output power is limited to 1 watt for ship stations, and 10 watts for coast stations.

* * * * *

26. Section 80.405 is amended by revising paragraph (c) to read as follows:

§ 80.405 Station license.

* * * * *

(c) Posting. (1) The current station authorization for a station other than a public coast station, or a clearly legible copy, must be posted at the principal control point of each station. If a copy is posted, it must indicate the location of the original. When the station license cannot be posted as in the case of a marine utility station operating at temporary unspecified locations or the ship or recreational boat does not have an enclosed wheelhouse, it must be kept where it will be readily available for inspection. The licensee of a station on board a ship subject to Part II or III or Title III of the Communications Act or the Safety Convention must retain the most recently expired ship station license in the station records until the first Commission inspection after the expiration date.

(2) Public coast stations authorized under this part must make available either a clearly legible copy of the authorization for each station at the principal control point of the station or an address or location where the current authorization may be found and a telephone number of that authorization's representative.

27. Section 80.409 is amended by revising paragraphs (b)(2) and (c), by removing paragraphs (d)(4), (d)(5), and (d)(11), and redesignating paragraphs (d)(6) through (d)(10) as paragraphs (d)(4) through (d)(8).

§ 80.409 Station logs.

* * * * *

(b) * * *

(2) Logs containing entries required by paragraph (c) of this section must be kept either at the principal control point of the station or electronically filed at the station licensee's primary office or available to the Commission via secured access to the licensee's Internet web site. Logs containing entries required by paragraphs (e) and (f) of this section must be kept at the principal radiotelephone operating location while the vessel is being navigated. All entries in their original form must be retained on board the vessel for at least 30 days from the date of entry. Additionally, logs required by paragraph (f) of this section must be retained on board the vessel for a period of 2 years from the date of the last inspection of the ship radio station.

* * * * *

(c) Public coast station logs. Public coast stations must maintain a log, whether by means of written or automatic logging or a combination thereof. The log must contain the following information:

(1) “ON DUTY” must be entered by the operator beginning a duty period, followed in the case of a written log by the operator's signature. “OFF DUTY” must be entered by the operator being relieved of or terminating duty, followed in the case of a written log by the operator's signature.

(2) The date and time of making an entry must be shown opposite the entry.

(3) Failure of equipment to operate as required and incidents tending to unduly delay communication must be entered.

(4) All measurements of the transmitter frequency(ies) must be entered with a statement of any corrective action taken.

(5) Entries must be made giving details of all work performed which may affect the proper operation of the station. The entry must be made, dated and in the case of a written log signed by the operator who supervised or performed the work and, unless the operator is regularly employed on a full-time basis at the station, must also include the mailing address, class, serial number, and expiration date of the operator license.

(6) Entries must be made about the operation of the antenna tower lights when the radio station has an antenna structure requiring illumination by part 17 of this chapter.

(7) All distress or safety related calls transmitted or received must be entered, together with the frequency used and the position of any vessel in need of assistance.

* * * * *

28. Section 80.471 is revised to read as follows:

§ 80.471 Discontinuance or impairment of service.

Except as specified in § 20.15(b)(3) of this chapter with respect to commercial mobile radio service providers, a public coast station must not discontinue or impair service unless authorized to do so by the Commission.

29. Section 80.905 is amended by revising paragraph (a) to read as follows:

§ 80.905 Vessel radio equipment.

(a) Vessels subject to part III of title III of the Communications Act that operate in the waters described in § 80.901 must, at a minimum, be equipped as follows:

(1) Vessels operated solely within the communications range of a VHF public coast station or U.S. Coast Guard station that maintains a watch on 156.800 MHz while the vessel is navigated must be equipped with a VHF-DSC radiotelephone installation, except that a VHF radiotelephone installation without DSC capability is permitted until one year after the Coast Guard notifies the Commission that shore-based sea area A1 coverage is established. Vessels in this category must not operate more than 20 nautical miles from land.

(2) Vessels operated beyond the 20 nautical mile limitation specified in paragraph (a)(1) of this section, but not more than 100 nautical miles from the nearest land, must be equipped with a MF-DSC frequency transmitter capable of transmitting J3E emission and a receiver capable of reception of J3E emission within the band 1710 to 2850 kHz, in addition to the VHF-DSC radiotelephone installation required by paragraph (a)(1) of this section, except that a MF radiotelephone installation without DSC capability is permitted until one year after the Coast Guard notifies the Commission that shore-based sea area A2 coverage is established. The MF or MF-DSC transmitter and receiver must be capable of operation on 2670 kHz.

(3) Vessels operated more than 100 nautical miles but not more than 200 nautical miles from the nearest land must:

(i) Be equipped with a VHF-DSC radiotelephone installation, except that a VHF radiotelephone installation without DSC capability is permitted until one year after the Coast Guard notifies the Commission that shore-based sea area A1 coverage is established;

(ii) Be equipped with an MF-DSC radiotelephone transmitter and receiver meeting the requirements of paragraph (a)(2) of this section, except that a MF radiotelephone installation without DSC capability is permitted until one year after the Coast Guard notifies the Commission that shore-based sea area A2 coverage is established; and

(iii) Be equipped with either:

(A) A DSC-capable single sideband radiotelephone that complies with ITU-R Rec. (series) M.493 Class A, B or E, and is capable of operating on all distress and safety frequencies in the medium frequency and high frequency bands listed in § 80.369(a) and (b), on all of the ship-to-shore calling frequencies in the high frequency bands listed in § 80.369(d), and on at least four of the automated mutual-assistance vessel rescue (AMVER) system HF duplex channels (this requirement may be met by the addition of such frequencies to the radiotelephone installation required by paragraph (a)(2) of this section); or

(B) If operated in an area within the coverage of an INMARSAT maritime mobile geostationary satellite in which continuous alerting is available, an INMARSAT B, C, or M ship earth station, or an INMARSAT A ship earth station if installed prior to February 12, 2004.

(iv) Be equipped with a reserve power supply meeting the requirements of §§ 80.917(b), 80.919 and 80.921, and capable of powering the single sideband radiotelephone or the ship earth station (including associated peripheral equipment) required by paragraph (a)(3)(iii) of this section, including the navigation receiver referred to in § 80.905(a)(5);

(v) Be equipped with a NAVTEX receiver conforming to the following performance standards: IMO Resolution A.525(13) and ITU-R Recommendation 540;

(vi) Be equipped with a Category I 406-406.1 MHz satellite emergency position-indicating radiobeacon (EPIRB) meeting the requirements of § 80.1061 or, if the ship is not operating in sea area A4, as defined in § 80.1069(a)(4), an automatic float-free INMARSAT-E EPIRB meeting the requirements of § 80.1063; and

(vii) Participate in the AMVER system while engaged on any voyage where the vessel is navigated in the open sea for more than 24 hours. Copies of the AMVER Bulletin are available at: AMVER Maritime Relations, USCG Battery Park Building, Room 201, New York, NY 10004-1499. Phone 212-668-7764; Fax 212-668-7684.

(4) Vessels operated more than 200 nautical miles from the nearest land must:

(i) Be equipped with two VHF-DSC radiotelephone installations, except that VHF radiotelephone installations without DSC capability are permitted until one year after the Coast Guard notifies the Commission that shore-based sea area A1 coverage is established;

(ii) Be equipped with an MF-DSC radiotelephone transmitter and receiver meeting the requirements of paragraph (a)(2) of this section, except that a MF radiotelephone installation without DSC capability is permitted until one year after the Coast Guard notifies the Commission that shore-based sea area A2 coverage is established;

(iii) Be equipped with either:

(A) A DSC-capable independent single sideband radiotelephone that complies with ITU-R Rec. (series) M.493 Class A, B or E, and is capable of operating on all distress and safety frequencies in the medium frequency and high frequency bands listed in § 80.369(a) and (b), on all of the ship-to-shore calling frequencies in the high frequency bands listed in § 80.369(d), and on at least four of the automated mutual-assistance vessel rescue (AMVER) system HF duplex channels; or

(B) If operated in an area within the coverage of an INMARSAT maritime mobile geostationary satellite in which continuous alerting is available, an INMARSAT B, C, or M ship earth station, or an INMARSAT A ship earth station if installed prior to February 12, 2004.

(iv) Be equipped with a reserve power supply meeting the requirements of §§ 80.917(b), 80.919 and 80.921, and capable of powering the single sideband radiotelephone or the ship earth station (including associated peripheral equipment) required by paragraph (a)(4)(iii) of this section, including the navigation receiver referred to in § 80.905(a)(5);

(v) Be equipped with a NAVTEX receiver conforming to the following performance standards: IMO Resolution A.525(13) and ITU-R Recommendation 540;

(vi) Be equipped with a Category I 406-406.1 MHz satellite emergency position-indicating radiobeacon (EPIRB) meeting the requirements of § 80.1061 or, if the ship is not operating in sea area A4, as defined in § 80.1069(a)(4), an automatic float-free INMARSAT-E EPIRB meeting the requirements of § 80.1063;

(vii) Be equipped with a radiotelephone distress frequency watch receiver meeting the requirements of § 80.269;

(viii) Be equipped with an automatic radiotelephone alarm signal generator meeting the requirements of § 80.221; and

(ix) Participate in the AMVER system while engaged on any voyage where the vessel is navigated in the open sea for more than 24 hours. Copies of the AMVER Bulletin are available at: AMVER Maritime Relations, USCG Battery Park Building, Room 201, New York, NY 10004-1499. Phone 212-668-7764; Fax 212-668-7684.

(5) Vessels must comply with the requirements for a navigation receiver or manual updating of position information contained in § 80.1085(c).

* * * * *

30. Section 80.1061 is amended by revising paragraphs (e) and (f) to read as follows:

§ 80.1061 Special requirements for 406.0-406.1 MHz EPIRB stations.

* * * * *

(e) An identification code, issued by the National Oceanic and Atmospheric Administration (NOAA), the United States Program Manager for the 406.025 MHz COSPAS/SARSAT satellite system, must be programmed in each EPIRB unit to establish a unique identification for each EPIRB station. With each marketable EPIRB unit, the manufacturer or grantee must include a postage pre-paid registration card printed with the EPIRB identification code addressed to: NOAA/SARSAT Beacon Registration, E/SP3, Federal Building 4, Room 3320, 5200 Auth Road, Suitland, MD 20746-4304. The registration card must request the owner's name, address, telephone number, type of ship, alternate emergency contact and other information as required by NOAA. The registration card must also contain information regarding the availability to register the EPIRB at NOAA's online web-based registration database at: http://www/beaconregistration.noaa.gov. In addition, the following statement must be included: “WARNING—failure to register this EPIRB with NOAA before installation could result in a monetary forfeiture being issued to the owner.”

(f) To enhance protection of life and property it is mandatory that each 406.0-406.1 MHz EPIRB be registered with NOAA before installation and that information be kept up-to-date. Therefore, in addition to the identification plate or label requirements contained in §§ 2.925 and 2.926 of this chapter, each 406.0-406.1 MHz EPIRB must be provided on the outside with a clearly discernible permanent plate or label containing the following statement: “The owner of this 406.0-406.1 MHz EPIRB must register the NOAA identification code contained on this label with the National Oceanic and Atmospheric Administration (NOAA) whose address is: NOAA, NOAA/SARSAT Beacon Registration, E/SP3, Federal Building 4, Room 3320, 5200 Auth Road, Suitland, MD 20746-4304.” Vessel owners shall advise NOAA in writing upon change of vessel or EPIRB ownership, transfer of EPIRB to another vessel, or any other change in registration information. NOAA will provide registrants with proof of registration and change of registration postcards.

* * * * *

31. Section 80.1063 is added to read as follows:

§ 80.1063 Special requirements for INMARSAT-E EPIRB stations.

(a) Notwithstanding the provisions in paragraph (b) of this section, INMARSAT-E EPIRBs must meet all the technical and performance standards contained in IEC 61097-5 Ed. 1.0, titled “Global maritime and distress safety system (GMDSS)—Part 5: INMARSAT-E—Emergency position indicating radio beacon (EPIRB) operating through the INMARSAT system—Operational and performance requirements, methods of testing and required test results,” including Annexes A, B, and C, 1997. IEC 61097-5 Ed. 1.0, including Annexes A, B, and C, is incorporated by reference (see § 80.1101).

(b) Prior to submitting a certification application for an INMARSAT-E radiobeacon, the radiobeacon must be certified by INMARSAT as complying with IEC 61097-5 Ed. 1.0. In addition, the radiobeacon must be tested as to compliance with the environmental and operational requirements identified in this paragraph (b) by the test facility which conducted the INMARSAT certification tests, or a test facility recognized by the U.S. Coast Guard. Information regarding recognized test facilities may be obtained from Commandant (G-MSE), U.S. Coast Guard, 2100 2nd Street, SW., Washington, D.C. 20593-0001, http://www.uscg.mil/hq/g-m/mse/lablist/161.011.htm.

(1) After an INMARSAT-E PIRB has been certified by the test facility, the following information must be submitted in duplicate to the Commandant (G-MSE), U.S. Coast Guard, 2100 2nd Street, SW., Washington D.C. 20593-0001:

(i) The name of the manufacturer or grantee and the model number of the radiobeacon;

(ii) Copies of the Inmarsat certification of compliance with IEC 61097-5 Ed. 1.0;

(iii) Copies of the test report and test data obtained from the test facility showing that the radiobeacon complies with IEC 61097-5 Ed. 1.0 and the environmental and operational requirements identified in this paragraph (b); and

(iv) Instruction manuals associated with the radiobeacon, description of the test characteristics of the radiobeacon including assembly drawings, electrical schematics, description of parts list, specifications of materials, and the manufacturer's quality assurance program.

(2) After reviewing the information described in paragraph (c)(1) of this section, the U.S. Coast Guard will issue a letter stating whether the radiobeacon satisfies all of the requirements specified in paragrpahs (a) and (b) of this section.

(c) A certification application for an INMARSAT-EPIRB submitted to the Commission must also contain a copy of the U.S. Coast Guard letter stating that the radiobeacon satisfies all of the requirements specified in paragraphs (a) and (b) of this section, a copy of the technical test data, and the instruction manual(s).

(d) The manufacturer or grantee must include with each marketable INMARSAT-E EPIRB appropriate material for registration of the radiobeacon with INMARSAT, along with a written warning that failure to register the radiobeacon could delay rescue services in an emergency.

(e) To enhance protection of life and property it is mandatory that each INMARSAT-E EPIRB be registered with INMARSAT before installation and that information be kept up-to-date. Therefore, in addition to the identification plate or label requirements contained in §§ 2.925 and 2.926 of this chapter, each INMARSAT-E EPIRB must be provided on the outside with a clearly discernable permanent plate or label containing the following statement: “The owner of this INMARSAT-E EPIRB must register the NOAA identification code contained on this label with INMARSAT at the following address: INMARSAT, 99 City Road, London, EC1Y 1AX, United Kingdom.” Vessel owners shall advise INMARSAT in writing upon change of vessel or EPIRB ownership, transfer of EPIRB to another vessel, or any other change in registration information.

(f) For INMARSAT-E EPIRBs whose identification code can be changed after manufacture, the identification code shown on the plate or label must be easily replaceable using commonly available tools.

32. Section 80.1077 is revised to read as follows:

§ 80.1077 Frequencies.

The following table describes the frequencies used in the Global Maritime Distress and Safety System:

Alerting:
406.0-406.1 EPIRBs | 406.0-406.1 MHz (Earth-to-space). 1544-1545 MHz (space-to-Earth).
INMARSAT-E EPIRBs | 1626.5-1645.5 MHz (Earth-to-space).
INMARSAT Ship Earth Stations capable of voice and/or direct printing | 1626.5-1645.5 MHz (Earth-to-space).
VHF DSC Ch. 70 | 156.525 MHz.¹
MF/HF DSC² ¹¹ | 2187.5 kHz³, 4207.5 kHz, 6312 kHz, 8414.5 kHz, 12577 kHz, and 16804.5 kHz.
On-scene communications:
VHF Ch.16 | 156.8 MHz.
MF Radiotelephony | 2182 kHz.
NBDP | 2174.5 kHz.
Communications involving aircraft:
On-scene, including search and rescue | 156.8 MHz⁴, 121.5 MHz⁵, 123.1 MHz, 156.3 MHz, 2182 kHz, 3023 kHz, 4125 kHz, and 5680 kHz.⁶
Locating signals:
406-406.1 EPIRB Beacons | 121.5 MHz.
9 GHz radar transponders | 9200-9500 MHz.
Maritime safety information (MSI):
International NAVTEX | 518 kHz.⁷
Warnings | 490 kHz, 4209.5 kHz.
NBDP | 4210 kHz, 6314 kHz, 8416.5 kHz, 12579 kHz, 16806.5 kHz, 19680.5 kHz, 22376 kHz, 26100.5 kHz.
Satellite | 1530-1545 MHz.¹⁰
General distress and safety communications and calling:
Satellite | 1530-1544 MHz (space-to-Earth) and 1626.5-1645.5 MHz (Earth-to-space).¹⁰
Radiotelephony | 2182 kHz, 4125 kHz, 6215 kHz, 8291 kHz, 12290 kHz, 16420 kHz, and 156.8 MHz.
NBDP | 2174.5 kHz, 4177.5 kHz, 6268 kHz, 8376.5 kHz, 12520 kHz, and 16695 kHz.
DSC | 2187.5 kHz, 4207.5 kHz, 6312 kHz, 8414.5 kHz, 12577 kHz, 16804.5 kHz, and 156.525 MHz.
Survival craft:
VHF radiotelephony | 156.8 MHz and one other 156-174 MHz frequency
9 GHz radar transponders | 9200-9500 MHz.
¹ Frequency 156.525 MHz can be used for ship-to-ship alerting and, if within sea area A1, for ship-to-shore alerting.
² For ships equipped with MF/HF equipment, there is a watch requirement on 2187.5 kHz, 8414.5 kHz, and one other frequency.
³ Frequency 2187.5 kHz can be used for ship-to-ship alerting and, if within sea area A2, for ship-to-shore alerting.
⁴ Frequency 156.8 MHz may also be used by aircraft for safety purposes only.
⁵ Frequency 121.5 MHz may be used by ships for aeronautical distress and urgency purposes.
⁶ The priority of use for ship-aircraft communications is 4125 kHz, then 3023 kHz. Additionally, frequencies 123.1 MHz, 3023 kHz and 5680 kHz can be used by land stations engaged in coordinated search and rescue operations.
⁷ The international NAVTEX frequency 518 kHz is the primary frequency for receiving maritime safety information. The other frequencies are used only to augment the coverage or information provided on 518 kHz.
⁸ [Reserved]
⁹ [Reserved]
¹⁰ In addition to EPIRBs, 1544-1545 MHz can be used for narrowband distress and safety operations and 1645.5-1646.5 MHz can be used for relay of distress alerts between satellites. Feeder links for satellite communications are assigned from the fixed satellite service, see 47 CFR § 2.106.
¹¹ Routine calling is not permitted on MF and HF DSC frequencies.

* * * * *

33. Section 80.1083 is amended by adding paragraphs (e) through (g) to read as follows:

§ 80.1083 Ship radio installations.

* * * * *

(e) In passenger ships, a distress panel shall be installed at the conning position. This panel shall contain either one single button which, when pressed, initiates a distress alert using all radiocommunications installations required on board for that purpose or one button for each individual installation. The panel shall clearly and visually indicate whenever any button or buttons have been pressed. Means shall be provided to prevent inadvertent activation of the button or buttons. If the satellite EPIRB is used as the secondary means of distress alerting and is not remotely activated, it shall be acceptable to have an additional EPIRB installed in the wheelhouse near the conning position.

(f) In passenger ships, information on the ship's position shall be continuously and automatically provided to all relevant radiocommunications equipment to be included in the initial distress alert when the button or buttons on the distress panel is pressed.

(g) In passenger ships, a distress alarm panel shall be installed at the conning position. The distress alarm panel shall provide visual and aural indication of any distress alert or alerts received on board and shall also indicate through which radiocommunication service the distress alerts have been received.

34. Section 80.1085 is amended by revising paragraph (a)(6)(i) and by adding paragraph (d) to read as follows:

§ 80.1085 Ship radio equipment-General.

(a) * * *

(6) * * *

(i) Capable of transmitting a distress alert through the polar orbiting satellite service operating in the 406.0-406.1 MHz band (406.0-406.1 MHz EPIRB) of, if the ship is not operating in sea area A4, as defined in § 80.1069(a)(4), the 1.6 GHz band (INMARSAT-E EPIRB); and

* * * * *

(d) Every passenger ship shall be provided with means for two-way on-scene radiocommunications for search and rescue purposes using the aeronautical frequencies 121.5 and 123.1 MHz from the position from which the ship is normally navigated.

35. Section 80.1087 is amended by revising paragraph (a)(2) to read as follows:

§ 80.1087 Ship radio equipment—Sea area A1.

(a) * * *

(2) Through the polar orbiting satellite service on 406.0-406.1 MHz or the INMARSAT-E service in the 1.6 GHz band (this requirement may be fulfilled by the EPIRB required by § 80.1085(a)(6), either by installing the EPIRB close to, or by allowing remote activation from, the position from which the ship is normally navigated); or

* * * * *

36. Section 80.1089 is amended by revising paragraph (a)(3)(i) to read as follows:

§ 80.1089 Ship radio equipment—Sea areas A1 and A2.

(a) * * *

(3) * * *

(i) Through the polar orbiting satellite service on 406.0-406.1 MHz or the INMARSAT-E service in the 1.6 GHz band (this requirement may be fulfilled by the EPIRB required by § 80.1085(a)(6), either by installing the EPIRB close to, or by allowing remote activation from, the position from which the ship is normally navigated); or

* * * * *

37. Section 80.1091 is amended by revising paragraph (a)(4)(i), redesignating paragraph (b)(3)(ii) as (b)(3)(iii), and adding a new paragraph (b)(3)(ii) to read as follows:

§ 80.1091 Ship radio equipment—Sea areas A1, A2, and A3.

* * * * *

(a) * * *

(4) * * *

(i) Through the polar orbiting satellite service on 406.0-406.1 MHz or the INMARSAT-E service in the 1.6 GHz band (this requirement may be fulfilled by the EPIRB required by § 80.1085(a)(6), either by installing the EPIRB close to, or by allowing remote activation from, the position from which the ship is normally navigated); or

* * * * *

(b) * * *

(3) * * *

(ii) Through the INMARSAT-E service in the 1.6 GHz band (this requirement may be fulfilled by the EPIRB required by § 80.1085(a)(6), either by installing the EPIRB close to, or by allowing remote activation from, the position from which the ship is normally navigated); or

* * * * *

38. Section 80.1093 is amended by revising paragraph (a) to read as follows:

§ 80.1093 Ship radio equipment—Sea areas A1, A2, A3, and A4.

* * * * *

(a) In addition to meeting the requirements of § 80.1085 of this part, ships engaged on voyages in all sea areas must be provided with the radio installations and equipment required by § 80.1091(b), except that the equipment required by § 80.1091(b)(3)(ii) and § 80.1091(b)(3)(iii) cannot be accepted as an alternative to that required by § 80.1091(b)(3)(i), which must always be provided.

* * * * *

39. Section 80.1101 is amended by adding a new sentence to the end of paragraph (b) introductory text, by redesignating paragraph (c)(11) as (c)(13) and adding new paragraphs (c)(11) and (c)(12) to read as follows:

§ 80.1101 Performance standards.

* * * * *

(b) * * *

The Director of the Federal Register approves this incorporation by reference in accordance with 5 U.S.C. 552(a) and 1 CFR part 51.

(c) * * *

(11) INMARSAT-E EPIRBs: (i) IMO Resolution A.812(19), “Performance Standards for Float-Free Satellite EPIRBs Operating Through the Geostationary INMARSAT Satellite System on 1.6 GHz,” adopted 23 November 1995, and Annex, “Recommendation on Performance.”.

(ii) IMO Resolution A.662(16), “Performance Standards for Float-Free Release and Activation Arrangements for Emergency Radio Equipment,” with Annex, adopted 19 October 1989.

(iii) Recommendation ITU-R M.632-3, “Transmission Characteristics of a Satellite Emergency Position Indicating Radio Beacon (Satellite EPIRB) System Operating Through Geostationary Satellites in the 1.6 GHz Band,” 1997.

(iv) IEC 61097-5, First Edition “Global maritime distress and safety system (GMDSS)—Part 5: Inmarsat-E Emergency position indicating radio beacon (EPIRB) operating through the Inmarsat system—operational and performance requirements, methods of testing and required test results,” including Annexes A, B, and C, 1997.

(v) The INMARSAT E-EPIRBs must also comply with § 80.1063.

(12) Automatic Identification Systems (AIS): (i) ITU-R M.1371-1, “Technical characteristics for a universal shipborne automatic identification system using time division multiple access in the VHF maritime mobile band,” with Annexes, August 2001.

(ii) IMO Resolution MSC.74(69), “Adoption of New and Amended Performance Standards, Annex 3 Recommendation on Performance Standards for a Universal Shipborne Automatic Identification Systems (AIS),” adopted 12 May 1998.

(iii) IEC 61162-1, Second Edition, “Maritime navigation and radiocommunication equipment and systems—Digital interfaces—Part 1: Single talker and multiple listeners,” July 2000.

(iv) IEC 61162-100, Edition 1.0, “Maritime navigation and radiocommunication equipment and systems—Digital interfaces—Part 100: Single talker and multiple listeners—Extra requirements to IEC 61162-1 for the UAIS,” April 2002.

(v) IEC 61993-2, First Edition, “Maritime navigation and radiocommunication equipment and systems—Automatic identification systems (AIS)—Part 2: Class A shipborne equipment of the universal automatic identification system (AIS)—Operational and performance requirements, methods of test and required test results,” December 2001, with Annexes.

* * * * *

40. Section 80.1103 is amended by revising paragraphs (b) and (c) to read as follows:

§ 80.1103 Equipment authorization.

* * * * *

(b) Applicants for certification must submit with their applications measurement data sufficiently complete to ensure compliance with the technical parameters. The application must include the items listed in 47 CFR 2.1033. Additional measurement data or information may be requested depending upon the equipment. For items not listed in § 2.1033 of this chapter, the applicant must attest that the equipment complies with performance standards as specified in § 80.1101 and, where applicable, that measurements have been made that demonstrate the necessary compliance. Submission of representative data demonstrating compliance is not required unless requested by the Commission.

(c) Applicants for verification must attest that the equipment complies with performance standards as specified in § 80.1101 and, where applicable, that measurements have been made that demonstrate the necessary compliance. Submission of representative data demonstrating compliance is not required unless requested by the Commission. An application must include the items listed in §§ 2.953 and 2.955 of this chapter and a copy of the INMARSAT type-approval certification indicating that equipment meets GMDSS standards and includes all peripheral equipment associated with the specific unit under review.

* * * * *

[FR Doc. 04-23759 Filed 11-5-04; 8:45 am]

BILLING CODE 6712-01-P